DEPARTMENT OF ENERGY

Federal Energy Regulatory Commission

[Docket No. IC22-2-000]

Commission Information Collection Activities (Ferc-545) Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-545 (Gas Pipeline Rates: Rate Change (Non-Formal)), which will be submitted to the Office of Management and Budget (OMB) for review.

DATES: Comments on the collection of information are due February 25, 2022.

ADDRESSES: Send written comments on FERC-545 to OMB through www.reginfo.gov/public/do/PRAMain. Attention: Federal Energy Regulatory Commission Desk Officer. Please identify the OMB Control Number (1902-0154) in the subject line of your comments. Comments should be sent within 30 days of publication of this notice to www.reginfo.gov/public/do/PRAMain.

Please submit copies of your comments to the Commission. You may submit copies of your comments (identified by Docket No. IC22-2-000) by one of the following methods: Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION: Title: FERC-545, Gas Pipeline Rates: Rate Change (Non-Formal).

OMB Control No.: 1902-0154.

Type of Request: Three-year extension of the FERC-545 information collection requirements with no changes to the current reporting requirements. No comments were received on the 60-day notice published November 15, 2021 (86 FR 63010).

Abstract: FERC-545 is required to implement Sections 4, 5, and 16 of the Natural Gas Act (NGA), (15 U.S.C. 717c, 717d, and 717o). NGA Sections 4, 5, and 16 authorize the Commission to inquire into rate structures and methodologies and to set rates at a just and reasonable level. Specifically, a natural gas company must obtain Commission authorization for all rates and charges made, demanded, or received in connection with the transportation or sale of natural gas in interstate commerce.

Under the NGA, a natural gas company's rates must be just and reasonable and not unduly discriminatory or preferential. The Commission may act under different sections of the NGA to effect a change in a natural gas company's rate. When the Commission reviews rate increases that a natural gas company has proposed, it is subject to the requirement of Section 4(e) of the NGA. Under Section 4(e), the natural gas company bears the burden of proving that its proposed rates are just and reasonable. On the other hand, when the Commission seeks to impose its own rate determination, it must do so in compliance with Section 5(a) of the NGA. Under Section 5, the Commission must first establish that its alternative rate proposal is both just and reasonable.

Section 16 of the NGA states that the Commission “shall have the power to perform any and all acts, and to prescribe, issue, make, amend, and rescind such orders, rules, and regulations as it may find necessary or appropriate to carry out provisions of [the NGA].” In other words, Section 16 of the NGA grants the Commission the power to define accounting, technical and trade terms, prescribe forms, statements, declarations, or reports and to prescribe rules and regulations.

Pipelines adjust their tariffs to meet market and customer needs. The Commission's review of these proposed changes is required to ensure rates remain just and reasonable and that services are not provided in an unduly or preferential manner. The Commission's regulations in 18 CFR part 154 specify what changes are allowed and the procedures for requesting Commission approval.

The Commission uses information in FERC-545 to examine rates, services, and tariff provisions related to natural gas transportation and storage services. The following filing categories are subject to FERC-545: (1) Tariff Filings—filings regarding proposed changes to a pipeline's tariff (including Cost Recovery Mechanisms for Modernization of Natural Gas Facilities filings in Docket No. PL15-1) and any related compliance filings; (2) Rate Filings—rate-related filings under NGA sections 4 and 5 and any related compliance filings and settlements; (3) Informational Reports; (4) Negotiated Rate and Non-Conforming Agreement Filings; (5) North American Energy Standards Board (NAESB) (RM96-1-042) Version 3.2; and (6) Market-Based Rates for Storage Filings (Part 284.501-505).

Type of Respondents: Natural gas pipelines under the jurisdiction of NGA.

Estimate of Annual Burden: ¹ The public reporting burden has increased for this information collection due to normal fluctuations in industry and the inclusion of tariff filings in compliance with Order No. 587-Z. On July 15, 2021, in Docket No. RM96-1-042, the Commission amended its regulations to incorporate by reference the North American Energy Standards Board (NAESB) Wholesale Quadrant Version 3.2 standards.² The revisions made by NAESB Version 3.2 are designed to enhance the natural gas industries' cyber security measures.

¹ The Commission defines burden as the total time, effort, or financial resources expended by persons to generate, maintain, retain, or disclose or provide information to or for a Federal agency. For further explanation of what is included in the information collection burden, reference 5 Code of Federal Regulations 1320.3.

² The final rule was published in the Federal Register on August 10, 2021 (86 FR 43590). OMB approved the information collection aspects of the rule, including revsions of FERC-545, in November of 2021.

The 60-day notice was published on November 15, 2021 (86 FR 63010). No comments were received.

The Commission estimates the annual public reporting burden and cost for the information collection as follows:

FERC-545—Gas Pipeline Rates: Rate Change (Non-Formal)
| Number of respondents | Average number of responses per respondent | Total number of responses | Average burden and cost per response ³ | Total annual burden hours and total annual cost | Cost per respondent ($)
| (1) | (2) | (1) * (2) = (3) | (4) | (3) * (4) = (5) | (5) ÷ (1)
Tariff Filings | 109 | 2.768 | 301.712 | 211 hrs.; $20,467 | 63,661.232 hrs.; $6,175,139.50 | 56,652.66
Rate Filings | 32 | 2 | 64 | 354 hrs.; $34,338 | 22,656 hrs.; $2,197,632 | 68,676
Informational Reports | 100 | 1.770 | 177 | 235 hrs.; $22,795 | 41,595 hrs.; $4,034,715 | 40,347.15
Negotiated Rates & Non-Conforming Agreement Filings | 69 | 11 | 759 | 233 hrs.; $22,601 | 176,847 hrs.; $17,154,159 | 248,611
Market-Base Rates for Storage Filings | 2 | 1 | 2 | 230 hrs.; $22,310 | 460 hrs.; $44,620 | 22,310
NAESB (version 3.2) one time over 3 years carried over from RM96-1-42 ⁴ | 59 | 1 | 59 | 10 hrs.; $970 | 593.33 hrs.; $57,553.33 | 970
Total |  |  | 1,362.712 |  | $305,812.56 hrs.; 29,663,818.51 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The estimated hourly cost (salary plus benefits) provided in this section is based on the salary figures for May 2021 posted by the Bureau of Labor Statistics for the Utilities sector (available at https://www.bls.gov/oes/current/naics3_221000.htm) and scaled to reflect benefits using the relative importance of employer costs for employee compensation from June 2021 (available at https://www.bls.gov/news.release/ecec.nr0.htm). The hourly estimates for salary plus benefits are:

Computer and Information Systems Manager (Occupation Code: 11-3021), $103.61

Computer and Information Analysts (Occupation Code: 15-1120 (1221), $67.99

Electrical Engineer (Occupation Code: 17-2071), $72.15

Legal (Occupation Code: 23-0000), $142.25

The average hourly cost (salary plus benefits), weighing all of these skill sets evenly, is $96.50. We round it to $97/hour.

⁴ The final rule in Docket No. RM96-1-042 was published in the Federal Register on August 10, 2021 (86 FR 43590). OMB approved the information collection aspects of the rule, including revisions of FERC-545, in November of 2021.

Dated: January 20, 2022.
Kimberly D. Bose,
Secretary.

[FR Doc. 2022-01522 Filed 1-25-22; 8:45 am]

BILLING CODE 6717-01-P